DEPARTMENT OF COMMERCE

National Oceanic and Atmospheric Administration

Agency Information Collection Activities; Submission to the Office of Management and Budget (OMB) for Review and Approval; Comment Request; Wage Mariner Hiring Portal

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before February 17, 2023.

ADDRESSES: Interested persons are invited to submit written comments to Adrienne Thomas, NOAA PRA Officer, at NOAA.PRA@noaa.gov. Please reference OMB Control Number 0648-0790 in the subject line of your comments. Do not submit Confidential Business Information or otherwise sensitive or protected information.

FOR FURTHER INFORMATION CONTACT: Requests for additional information or specific questions related to collection activities should be directed to Luther Young III, Office of Marine and Aviation Operations, 1315 East West Hwy, 10th Floor, Silver Spring, MD 20910, telephone number (202) 710—3285, email address: luther.young@noaa.gov.

SUPPLEMENTARY INFORMATION:

I. Abstract

This is a request for extension of an existing information collection.

The Wage Mariner Hiring Portal (WMHP) is an internet-based system (website) that is designed to allow an applicant to apply for a “wage mariner” position within the National Oceanic and Atmospheric Administration (NOAA) fleet of maritime vessels. The WMHP system collects basic user information, wage mariner licensing, certifications, and relevant current and or past work history. The Department of Commerce (DOC), through NOAA, Office of Marine and Aviation Operations (OMAO) has special hiring authority under Code of Federal Regulations (CFR), Title 5, chapter 1, subchapter A, part 3, 3.2 and under the DOC Department Administrative Order (DAO) 202-302 section 2, subsection .02a. specific to the hiring of federal wage mariner employees. The regulations allow OMAO to hire wage mariners into excepted service positions within the NOAA fleet of ocean going vessels in order to maintain adequate operations, maintenance, and safe staffing of the maritime ships.

No physical forms are used in this collection, it is all online. Applicants fill out basic personal, licensure, and work history information into a profile resume. Once their basic profile is complete, applicants can submit this resume to available wage mariner positions as shown on the WMHP website. The application information received is used to determine if the applicant meets the basic job qualification. The applicant's information is then passed on to the hiring official or it is placed in a pool of prospective candidates for future openings. Application information includes: first and last name, contact number and email address, wage mariner licenses and certifications, relevant work history.

II. Method of Collection

Information will be collected electronically (internet) through an online web based interactive system.

III. Data

OMB Control Number: 0648-0790.

Form Number(s): None.

Type of Review: Regular submission (extension of approved information collection).

Affected Public: Individuals or households.

Estimated Number of Respondents: 1000.

Estimated Time per Response: 60 minutes. 5 minutes to fill our applicant's first and last name and contact mobile and or home number and email address. 5 minutes to fill out wage mariner license specific information. 40 minutes to enter wage mariner certifications and relevant past work history. 10 minutes to fill out relevant educational history.

Estimated Total Annual Burden Hours: 6000 hours.

Estimated Total Annual Cost to Public: $0.

Respondent's Obligation: Required to Obtain or Retain Benefits.

Legal Authority: Code of Federal Regulations (CFR), Title 5, Chapter 1, Subchapter A, Part 3, § 3.2.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-27408 Filed 12-16-22; 8:45 am]

BILLING CODE 3510-12-P